DEPARTMENT OF TRANSPORTATION

Federal Aviation Administration

14 CFR Part 39

[Docket No. 2000-SW-09-AD; Amendment 39-11852; AD 2000-15-19]

RIN 2120-AA64

Airworthiness Directives; Eurocopter France Model SA-365N, N1, and AS-365N2, N3 Helicopters

AGENCY: Federal Aviation Administration, DOT.

ACTION: Final rule; request for comments.

SUMMARY: This amendment adopts a new airworthiness directive (AD) for Eurocopter France Model SA-365N, N1, and AS-365N2, N3 helicopters. This action requires inspecting the sand filter ejection nozzle (nozzle) for cracks and replacing any cracked nozzle. This amendment is prompted by the discovery of a cracked nozzle during a preflight inspection. This condition, if not corrected, could result in loss of the nozzle in flight, impact with the main or tail rotor, and a subsequent forced landing.

DATES: Effective August 24, 2000. Comments for inclusion in the Rules Docket must be received on or before October 10, 2000.

ADDRESSES: Submit comments in triplicate to the Federal Aviation Administration (FAA), Office of the Regional Counsel, Southwest Region, Attention: Rules Docket No. 2000-SW-09-AD, 2601 Meacham Blvd., Room 663, Fort Worth, Texas 76137. You may also send comments electronically to the Rules Docket at the following address: 9-asw-adcomments@faa.gov. Comments may be inspected at the Office of the Regional Counsel between 9:00 a.m. and 3:00 p.m., Monday through Friday, except Federal holidays.

FOR FURTHER INFORMATION CONTACT: Paul Madej, Aviation Safety Engineer, FAA, Rotorcraft Directorate, Rotorcraft Standards Staff, Fort Worth, Texas 76193-0110, telephone (817) 222-5125, fax (817) 222-5961.

SUPPLEMENTARY INFORMATION: The Direction Generale De L'Aviation Civile (DGAC), which is the airworthiness authority for France, notified the FAA that an unsafe condition may exist on Eurocopter France Model SA-365N, N1, and AS-365N2, N3 helicopters with CENTRISEP EAPS sand filters installed. The DGAC advises that a crack on a nozzle can result in separation of the nozzle from the helicopter. The DGAC has issued AD No. 2000-108-050(A), dated March 22, 2000, in order to assure the continued airworthiness of these helicopters in France.

These helicopter models are manufactured in France and are type certificated for operation in the United States under the provisions of § 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Since an unsafe condition has been identified that is likely to exist or develop on other Eurocopter France Model SA-365N, N1, and AS-365N2, N3 helicopters of the same type design registered in the United States, this AD is being issued to prevent loss of a nozzle in flight, impact with the main or tail rotor, and a subsequent forced landing. This AD requires inspecting each nozzle for a crack before further flight, and thereafter before the first flight of each day. Replacing any cracked nozzle with an airworthy nozzle is also required before further flight.

No helicopters on the U.S. registry will be affected by this AD since the sand filter kit (kit) that contains the nozzles is not currently installed on any helicopter in the U.S. fleet. Should a kit be installed on a helicopter listed on the U.S. Registry, it would take approximately 1.0 work hour per helicopter to inspect the nozzles and 2 work hours to replace a nozzle, if necessary. The average labor rate is $60 per work hour. Based on these figures, and assuming that the kit is installed on a helicopter, the total cost impact of this AD on a U.S. operator is estimated to be $60 for each day of flight operations assuming a nozzle does not need to be replaced.

Since this AD action does not affect any helicopter that is currently on the U.S. Register, it has no adverse economic impact and imposes no additional burden on any person. Therefore, notice and public procedures hereon are unnecessary and the amendment may be made effective in less than 30 days after publication in the Federal Register.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their mailed comments submitted in response to this rule must submit a self-addressed, stamped postcard on which the following statement is made: “Comments to Docket No. 2000-SW-09-AD.” The postcard will be date stamped and returned to the commenter.

The regulations adopted herein will not have a substantial direct effect on the States, on the relationship between the national Government and the States, or on the distribution of power and responsibilities among the various levels of government. Therefore, it is determined that this final rule does not have federalism implications under Executive Order 13132.

The FAA has determined that notice and prior public comment are unnecessary in promulgating this regulation; therefore, it can be issued immediately to correct an unsafe condition in aircraft since none of these model helicopters registered in the United States have the affected sand filter kit installed. The FAA has also determined that this regulation is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2000-15-19 Eurocopter France: Amendment 39-11852. Docket No. 2000-SW-09-AD.

Applicability: Model SA-365N, N1, and AS-365N2, N3 helicopters with CENTRISEP EAPS sand filters, part number QB0261, QB0262, QB0486, or QB0487, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (b) of this AD. The request should include an assessment of the effect of the modification, alteration, or repair on the unsafe condition addressed by this AD; and if the unsafe condition has not been eliminated, the request should include specific proposed actions to address it.

Compliance: Required as indicated, unless accomplished previously.

To prevent loss of a sand filter ejection nozzle (nozzle) in flight, impact with the main or tail rotor, and a subsequent forced landing, accomplish the following:

(a) Before further flight, and thereafter before the first flight of each day, visually inspect the left-hand and right-hand nozzles for a crack. Replace any cracked nozzle with an airworthy nozzle before further flight.

Note 2: Eurocopter AS 365 Service Bulletin No. 71.00.14, dated February 21, 2000, pertains to the subject of this AD.

(b) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 3: Information concerning the existence of approved alternative methods of compliance with this AD, if any, may be obtained from the Regulations Group.

(c) Special flight permits may be issued in accordance with §§ 21.197 and 21.199 of the Federal Aviation Regulations (14 CFR 21.197 and 21.199) to operate the helicopter to a location where the requirements of this AD can be accomplished.

(d) This amendment becomes effective on August 24, 2000.

Note 4: The subject of this AD is addressed in Direction Generale De L'Aviation Civile (France) AD No. 2000-108-050(A), dated March 22, 2000.

Issued in Fort Worth, Texas, on August 1, 2000.
Henry A. Armstrong,
Manager, Rotorcraft Directorate, Aircraft Certification Service.

[FR Doc. 00-20183 Filed 8-8-00; 8:45 am]

BILLING CODE 4910-13-U